DEPARTMENT OF LABOR

Office of the Secretary

Advisory Committee on Veterans' Employment and Training; Notice of Renewal

In accordance with the provisions of the Federal Advisory Committee Act and Office of Management and Budget Circular A-63—of March 1974, and after consultation with GSA, the Secretary of Labor has determined that the renewal of the Advisory Committee on Veterans' Employment and Training is in the public interest in connection with the performance of duties imposed on the Department by section 4110 of title 38, United States Code.

The Advisory Committee on Veterans' Employment and Training shall: Assess the employment and training needs of veterans; determine the extent to which the programs and activities of the Department of Labor are meeting such needs; carry out such other activities that are necessary to make the recommendations required by law and, at such times as the Committee may determine, report to the Secretary of Labor on the employment and training needs of veterans.

The Committee shall consist of at least 12, but not more than 18, individuals appointed by the Secretary of Labor to serve as members of the Advisory Committee, consisting of: representatives nominated by veterans' organizations that are chartered by Federal law and have a national employment program, and not more than 6 individuals who are recognized authorities in the fields of business, employment, training, rehabilitation, or labor and who are not employees of the Department of Labor.

The Advisory Committee will report to the Assistant Secretary for Veterans' Employment and Training. It will function solely as an advisory body and in compliance with the provisions of the Federal Advisory Committee Act, and its charter will be filed under the Act.

For further information contact Ms. Polin Cohanne, Chief of Staff, Office of the Assistant Secretary for Veterans' Employment and Training, U.S. Department of Labor 200 Constitution Avenue, N.W., Washington, D.C. 20210, telephone (202) 693-4741.

Signed at Washington, D.C., this 19th day of October, 2000.
Alexis M. Herman,
Secretary of Labor.

[FR Doc. 00-27398 Filed 10-24-00; 8:45 am]

BILLING CODE 4510-79-M